DEPARTMENT OF ENERGY

Federal Energy Regulatory Commission

[Docket Nos. CP09-6-001; CP09-7-001; Docket No. CP13-507-000]

LNG Development Company, LLC; Oregon Pipeline Company, LLC; Northwest Pipeline LLC; Notice of Availability of the Draft Environmental Impact Statement for the Proposed Oregon LNG Terminal and Pipeline Project and Washington Expansion Project

The staff of the Federal Energy Regulatory Commission (FERC or Commission) has prepared a draft environmental impact statement (EIS) for the Oregon LNG Terminal and Pipeline Project (Oregon LNG Project) proposed by LNG Development Company, LLC and Oregon Pipeline Company, LLC (collectively referred to as Oregon LNG) and the Washington Expansion Project proposed by Northwest Pipeline LLC (Northwest) in the above-referenced dockets. Oregon LNG requests authorization under Section 3 of the Natural Gas Act (NGA) to site, construct, and operate an import/export liquefied natural gas (LNG) terminal in Warrenton, Oregon. Oregon LNG also requests a Certificate of Public Convenience and Necessity (Certificate) pursuant to Section 7(c) of the NGA to construct and operate a natural gas pipeline from the proposed LNG terminal to an interconnect with the interstate transmission system of Northwest near Woodland, Washington. Northwest requests a Certificate pursuant to Section 7(c) of the NGA to expand the capacity of its existing natural gas transmission facilities between Woodland and Sumas, Washington. The primary purpose of the projects is to export an equivalent of about 456 billion cubic feet per year of natural gas to foreign markets.

The draft EIS assesses the potential environmental effects of the construction and operation of the Oregon LNG and Washington Expansion Projects in accordance with the requirements of the National Environmental Policy Act (NEPA). The FERC staff concludes that approval of the proposed projects would result in some adverse environmental impacts; however, most of these impacts would be reduced to less-than-significant levels with the implementation of Oregon LNG's and Northwest's proposed mitigation and the additional measures recommended in the draft EIS.

The U.S. Environmental Protection Agency, U.S. Army Corps of Engineers, U.S. Fish and Wildlife Service, U.S. Coast Guard, U.S. Department of Energy, and U.S. Department of Transportation's Pipeline and Hazardous Materials Safety Administration participated as cooperating agencies in the preparation of the EIS. Cooperating agencies have jurisdiction by law or special expertise with respect to resources potentially affected by the proposal and participate in the NEPA analysis. Although the cooperating agencies provided input to the conclusions and recommendations presented in the draft EIS, the agencies will present their own conclusions and recommendations in their respective records of decision or determinations for the projects.

The draft EIS addresses the potential environmental effects of the construction and operation of the following facilities associated with the Oregon LNG Project:

• One marine terminal with a ship berth for one LNG marine carrier;

• two full-containment storage tanks, each designed to store 160,000 cubic meters of LNG;

• natural gas pretreatment facilities;

• two liquefaction process trains, regasification facilities, and other related terminal support structures and systems;

• an 86.8-mile-long, 36-inch-diameter bidirectional pipeline; and

• one 40-megawatt (MW), 48,000-horsepower (hp) electrically driven gas compressor station.

For the Washington Expansion Project, the draft EIS addresses the potential environmental effects of the construction and operation of:

• 140.6 miles of 36-inch-diameter pipeline loop ¹ along Northwest's existing pipeline in 10 noncontiguous segments;

¹ A pipeline loop is a segment of pipe constructed parallel to an existing pipeline to increase capacity.

• ancillary pipeline facilities; and

• 96,000 hp of additional compression at five existing compressor stations.

Northwest's project would also include abandonment and removal of existing pipeline and aboveground facilities.

The FERC staff mailed copies of the draft EIS to federal, state, and local government representatives and agencies; elected officials; environmental and public interest groups; Native American tribes; potentially affected landowners; other interested individuals and nongovernmental organizations; newspapers and libraries in the project area; and parties to these proceedings. Paper copy versions of this EIS were mailed to those specifically requesting them; all others received a compact disk version. In addition, the draft EIS is available for public viewing on the FERC's Web site (www.ferc.gov) using the eLibrary link. A limited number of hardcopies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before October 6, 2015.

For your convenience, there are four methods you can use to submit your comments to the Commission. In all instances, please reference the project docket numbers (CP09-6-001, CP09-7-001, and CP13-507-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address: Kimberly D. Bose, Secretary, Federal Energy Regulatory Commission, 888 First Street NE., Room 1A, Washington, DC 20426.

(4) In lieu of sending written or electronic comments, the Commission invites you to attend one of the public comment meetings its staff will conduct during the draft EIS comment period and in the project area to receive comments on the draft EIS. We encourage interested groups and individuals to attend and present oral comments on the draft EIS. Transcripts of the meetings will be available for review in eLibrary under the project docket numbers. A notice of meeting times and locations will be sent to the environmental mailing list and posted on the FERC eLibrary.

Any person seeking to become a party to the proceeding must file a motion to intervene pursuant to Rule 214 of the Commission's Rules of Practice and Procedures (Title 18 Code of Federal Regulations Part 385.214).² Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

² See the previous discussion on the methods for filing comments.

Questions?

Additional information about the project is available from the Commission's Office of External Affairs, at (866) 208-FERC, or on the FERC Web site (www.ferc.gov) using the eLibrary link. Click on the eLibrary link, click on “General Search,” and enter the docket number(s) excluding the last three digits in the Docket Number field (i.e., CP09-6-001, CP09-7-001, and CP13-507-000). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: August 5, 2015.
Nathaniel J. Davis, Sr.,
Deputy Secretary.

[FR Doc. 2015-19686 Filed 8-10-15; 8:45 am]

BILLING CODE 6717-01-P